DEPARTMENT OF COMMERCE

Submission for OMB Review; Comment Request

DOC has submitted to the Office for Management and Budget (OMB) for clearance the following proposal for collection of information under the provisions of the Paperwork Reduction Act of 1995, Public Law 104-13.

Bureau: International Trade Administration.

Title: SABIT: Applications and Questionnaires.

Agency Form Number: ITA-4143P-5.

OMB Number: 0625-0225.

Type of Request: Regular Submission.

Burden: 5988 hours.

Number of Respondents: 2370.

Avg. Hours Per Response: 4 hour per participant.

Needs and Uses: The Department of Commerce, International Trade Administration, SABIT Office supports technical assistance and training for professionals from Eurasia, while promoting information exchange and U.S.-Eurasian partnerships. Since inception SABIT has trained over 3300 professionals from Eurasia.

The Applications and Questionnaires are utilized by SABIT staff to evaluate and select the most qualified intern candidates and host companies to participate in the Grant and Group programs. In addition, staff is able to implement changes and measure the effectiveness of the program by the responses collected.

Affected Public: Businesses or other non-profit, individuals (non-U.S. citizens, SABIT staff).

Frequency: Periodic.

Respondent's Obligation: Required. In order to participate in the SABIT Programs, applications need to be completed.

OMB Desk Officer: David Rostker, (202) 395-7340.

Copies of the above information collection proposal can be obtained by writing Diana Hynek, Departmental Paperwork Clearance Officer, Department of Commerce, Room 6625, 14th & Constitution Avenue, NW, Washington, DC 20230; E-mail: dHynek@doc.gov.

Written comments and recommendations for the proposed information collection should be e-mailed to David_Rostker@omb.eop.gov or fax (202) 395-7285 within 30 days of the publication of this notice in the Federal Register.

Dated: October 7, 2004.
Madeleine Clayton,
Management Analyst, Office of the Chief Information Officer.

[FR Doc. 04-23007 Filed 10-13-04; 8:45 am]

BILLING CODE 3510-HE-P